DEPARTMENT OF TRANSPORTATION

Federal Aviation Administration

14 CFR Part 71

[Docket No. FAA-2018-0221; Airspace Docket No. 17-ANM-24]

RIN-2120-AA66

Amendment, Revocation, and Establishment of Air Traffic Service (ATS) Routes; Western United States

AGENCY: Federal Aviation Administration (FAA), DOT.

ACTION: Final rule, correction.

SUMMARY: This action corrects a final rule published in the Federal Register of November 20, 2019, that amended, removed and established United States Area Navigation (RNAV) ATS routes in the western United States. ATS route T-268 had a geographic coordinate misidentified for HEMER, WA waypoint. This action corrects the geographic coordinate that was incorrectly listed in the final rule.

DATES: Effective date 0901 UTC, January 30, 2020. The Director of the Federal Register approves this incorporation by reference action under Title 1 Code of Federal Regulations part 51, subject to the annual revision of FAA Order 7400.11 and publication of conforming amendments.

FOR FURTHER INFORMATION CONTACT: Kenneth Ready, Rules and Regulations Group, Office of Policy, Federal Aviation Administration, 800 Independence Avenue SW, Washington, DC 20591; telephone: (202) 267-8783.

SUPPLEMENTARY INFORMATION:

History

The FAA published a final rule in the Federal Register for Docket No. FAA-2018-0221 (84 FR 64014, November 20, 2019), that amended, removed and established RNAV ATS routes in the western United States. Subsequent to publication, the FAA identified an editorial error to the geographic coordinate that identified HEMER, WA, waypoint (WP) along ATS route T-268. To accurately reflect the geographic coordinate HEMER, WA, WP, this correction changes the geographic coordinate from “HEMER, WA WP (Lat. 48°21′52.95″ N, long. 124°23′26.86″ W)” to read “HEMER, WA WP (Lat. 48°22′37.11″ N, long. 124°24′07.47″ W)”.

Correction to Final Rule

Accordingly, pursuant to the authority delegated to me, Amendment, Revocation, and Establishment of Air Traffic Service (ATS) Routes; Western United States, published in the Federal Register of November 20, 2019 (84 FR 64014) FR Doc. 2019-25047, is corrected as follows:

§ 71.1 [Amended]

Paragraph 6011 United States Area Navigation Routes.

T-268 TATOOSH, WA (TOU) to BISMARCK, ND (BIS) [Corrected]

On page 64015, column 3, line 46, remove “HEMER, WA WP (Lat. 48°21′52.95″ N, long. 124°23′26.86″ W)” and add in its place “HEMER, WA WP (Lat. 48°22′37.11″ N, long. 124°24′07.47″ W)”.

Issued in Washington, DC, on January 13, 2020.
Scott M. Rosenbloom,
Acting Manager, Rules and Regulations Group.

[FR Doc. 2020-00772 Filed 1-17-20; 8:45 am]

BILLING CODE 4910-13-P